ENVIRONMENTAL PROTECTION AGENCY

[EPA-HQ-OEJECR-2024-0235; FRL-12561-01-OMS]

Agency Information Collection Activities; Submission to the Office of Management and Budget for Review and Approval; Comment Request; Environmental and Climate Justice Community Change Grant Program: Post-Award Reporting (New)

AGENCY: Environmental Protection Agency (EPA).

ACTION: Notice.

SUMMARY: The Environmental Protection Agency (EPA) has submitted an information collection request (ICR), Environmental and Climate Justice Community Change Grant Program: Post-Award Reporting (EPA ICR Number 7781.01, OMB Control Number 2035-NEW) to the Office of Management and Budget (OMB) for review and approval in accordance with the Paperwork Reduction Act. This is a request for approval of a new collection. Public comments were previously requested via the Federal Register on August 6, 2024 during a 60-day comment period. This notice allows for an additional 30 days for public comments.

DATES: Comments may be submitted on or before February 18, 2025.

ADDRESSES: Submit your comments, referencing Docket ID Number EPA-HQ-OEJECR-2024-0235, to EPA online using www.regulations.gov (our preferred method), by email to Docket_OMS@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Aarti Iyer, Office of the Chief Financial Officer, Environmental Protection Agency, 1200 Pennsylvania Ave. NW, Washington, DC 20460; email address: iyer.aarti@epa.gov; phone: 202-564-0214.

SUPPLEMENTARY INFORMATION: This is a request for approval of a new collection. An agency may not conduct or sponsor, and a person is not required to respond to, a collection of information unless it displays a currently valid OMB control number.

Public comments were previously requested via the Federal Register on August 6, 2024 during a 60-day comment period (89 FR 63940). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: The U.S. Environmental Protection Agency (EPA) makes competitive financial assistance awards to support projects that tackle environmental, public health, and energy challenges across the country. Historically, these investments have not reached communities and groups who are overburdened by the effects of pollution, environmental hazards, and climate change. To help get resources and funding to underserved and overburdened communities, the Inflation Reduction Act (IRA) created the Environmental and Climate Justice Block Grant Program (ECJP)—the largest investment in environmental and climate justice in U.S. history—when it was signed into law by President Biden on August 16, 2022. The Community Change Grants (CCG) are the final and most comprehensive piece of EPA's implementation of ECJP IRA funding. The CCG program will provide funding to communities and their partners to design, develop, and implement multi-faceted, community-driven projects to protect public health and the environment. With this Information Collection Request (ICR), EPA seeks approval to collect performance information from CCG grantees via progress reports and final reports. Collection of this information enables EPA to assess and manage the CCG program, which ensures responsible stewardship of public funds; rigorous evidence-based learning and improvement; and transparent accountability to the American public.

Form Numbers: None.

Respondents/affected entities: Recipients of financial assistance awards

Respondent's obligation to respond: Mandatory for recipients of financial awards to obtain or retain a benefit (2 CFR parts 200 and 1500).

Estimated number of respondents: 105.

Frequency of response: Varies.

Total estimated burden: 9,100 hours (per year). Burden is defined at 5 CFR 1320.03(b).

Total estimated cost: $521,339 (per year), including $0 annualized capital or operation & maintenance costs.

Changes in the Estimates: This is a new collection, and so does not involve any program changes or burden adjustments.

Courtney Kerwin,
Director, Regulatory Support Division.

[FR Doc. 2025-01040 Filed 1-15-25; 8:45 am]

BILLING CODE 6560-50-P